DEPARTMENT OF HEALTH AND HUMAN SERVICES

Health Resources and Services Administration

Agency Information Collection Activities: Submission For OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to OMB for review under the Paperwork Reduction Act of 1995:

Proposed Project: The Health Education Assistance Loan Program: Physician's Certification of Borrower's Total and Permanent Disability Form (OMB No. 0915-0204 Extension)

The Health Education Assistance Loan (HEAL) program provided federally-insured loans to students in schools of allopathic medicine, osteopathic medicine, dentistry, veterinary medicine, optometry, podiatric medicine, pharmacy, public health, allied health or chiropractic, and graduate students in health administration or clinical psychology through September 30, 1998. Eligible lenders, such as banks, savings and loan associations, credit unions, pension funds, State agencies, HEAL schools, and insurance companies, were permitted to refinance HEAL loans which were insured by the Federal Government against loss due to borrower's death, disability, bankruptcy, and default until the authority to refinance HEAL loans expired on September 30, 2004. The basic purpose of the program was to assure the availability of funds for loans to eligible students who needed to borrow money to pay for their educational loans. Currently, the program monitors the Federal liability and assists in default prevention activities. The HEAL borrower, the borrower's physician, and the holder of the loan completes the Physician's Certification form to certify that the HEAL borrower meets the total and permanent disability provisions.

The Department uses this form to obtain detailed information about disability claims which includes the following: (1) The borrower's consent to release medical records to the Department of Health and Human Services and to the holder of the borrower's HEAL loans, (2) pertinent information supplied by the certifying physician, (3) the Physician's Certification that the borrower is unable to engage in any substantial gainful activity because of a medically determined impairment that is expected to continue for a long and indefinite period of time or to result in death, and (4) information from the lender on the unpaid balance. Failure to submit the required documentation will result in disapproval of a disability claim.

The estimate of burden for the Physician's Certification form is as follows:

Type of respondent | Number of respondents | Responses per respondent | Number of responses | Minutes per response | Total burden hours
Borrower | 80 | 1 | 80 | 5 | 7
Physician | 80 | 1 | 80 | 30 | 40
Loan Holder | 17 | 5 | 85 | 10 | 14
Total | 177 |  | 245 |  | 61

Written comments and recommendations concerning the proposed information collection should be sent within 30 days of this notice to: Karen Matsuoka, Health Resources and Services Administration, Human Resources and Housing Branch, OMB, New Executive Office Building, Room 10235, Washington, DC 20503.

Dated: April 6, 2007.
Caroline Lewis,
Acting Associate Administrator for Administration and Financial Management.

[FR Doc. E7-6992 Filed 4-12-07; 8:45 am]

BILLING CODE 4165-15-P